DEPARTMENT OF LABOR

Occupational Safety and Health Administration

[Docket No. OSHA-2020-0010]

Maritime Advisory Committee on Occupational Safety and Health (MACOSH): Notice of Meeting

AGENCY: Occupational Safety and Health Administration (OSHA), Labor.

ACTION: Notice of MACOSH meeting.

SUMMARY: The Maritime Advisory Committee on Occupational Safety and Health (MACOSH) will meet June 9, 2022, by WebEx.

DATES: MACOSH will meet from 1:00 p.m. to 3:00 p.m., ET, Thursday, June 9, 2022.

ADDRESSES:

Submission of comments and requests to speak: Submit comments and requests to speak at the MACOSH meeting by June 1, 2022, identified by the docket number for this Federal Register notice (Docket No. OSHA-2020-0010), using the following method:

Electronically: Comments and requests to speak, including attachments, must be submitted electronically at: http://www.regulations.gov, the Federal eRulemaking Portal. Follow the online instructions for submissions.

Requests for special accommodations: Submit requests for special accommodations for this MACOSH meeting by June 1, 2022, to Ms. Carla Marcellus, Occupational Safety and Health Administration, Directorate of Standards and Guidance, U.S. Department of Labor; telephone (202) 693-1865; email marcellus.carla@dol.gov.

Docket: To read or download comments or other material in the docket, go to http://www.regulations.gov. Documents in the docket are listed in the http://www.regulations.gov index; however, some information (e.g., copyrighted material) is not publicly available to read or download through the website. All submissions, including copyrighted material, are available for inspection through the OSHA Docket Office. Contact the OSHA Docket Office for assistance in locating docket submissions at (202) 693-2350 (TTY (877) 889-5627).

Instructions: All submissions must include the agency name and the OSHA docket number for this Federal Register notice (Docket No. OSHA-2020-0010). OSHA will place comments and requests to speak, including personal information, in the public docket, which will be available online. Therefore, OSHA cautions interested parties about submitting personal information such as Social Security numbers and birthdates.

FOR FURTHER INFORMATION CONTACT:

For press inquiries: Mr. Frank Meilinger, Director, OSHA Office of Communications, U.S. Department of Labor; telephone (202) 693-1999; email meilinger.francis2@dol.gov.

For general information about MACOSH: Ms. Amy Wangdahl, Director, Office of Maritime and Agriculture, OSHA, U.S. Department of Labor; telephone (202) 693-2066; email: wangdahl.amy@dol.gov.

Telecommunication requirements: For additional information about the telecommunication requirements for the meeting, please contact Ms. Carla Marcellus, Directorate of Standards and Guidance, OSHA, U.S. Department of Labor; telephone (202) 693-1865; email marcellus.carla@dol.gov.

For copies of this Federal Register Notice: Electronic copies of this Federal Register notice are available at http://www.regulations.gov. This notice, as well as news releases and other relevant information, is also available at OSHA's web page at www.osha.gov.

SUPPLEMENTARY INFORMATION: Attendance at the MACOSH meeting will be by WebEx. The WebEx link is: https://usdolevents.webex.com/usdolevents/j.phpMTID=mdc44fa031bf41679d38d3bc32fc898e9.

The event password is Welcome!24. The event may also be accessed by dialing 877-465-7975. The dial-in access code is 2762 793 4224.

The tentative agenda for the full Committee will include reports from the Shipyard and Longshoring workgroups, including discussions on incident response for workers, severe weather preparedness, rescue of persons in the water, and on-dock rail safety.

Authority and Signature

James S. Frederick, Deputy Assistant Secretary of Labor for Occupational Safety and Health, authorized the preparation of this notice under the authority granted by 29 U.S.C. 655(b)(1) and 656(d), 5 U.S.C. app. 2, Secretary of Labor's Order No. 8-2020 (85 FR 58393), and 29 CFR part 1912.

Signed at Washington, DC.
James S. Frederick,
Deputy Assistant Secretary of Labor for Occupational Safety and Health.

[FR Doc. 2022-10888 Filed 5-19-22; 8:45 am]

BILLING CODE 4510-26-P